DEPARTMENT OF STATE

[Public Notice 7235]

Notice of Public Meeting of the President's Emergency Plan for AIDS Relief (PEPFAR) Scientific Advisory Board

SUMMARY: In accordance with the Federal Advisory Committee Act (FACA), the PEPFAR Scientific Advisory Board hereinafter referred to as “the Board,” will meet as indicated below.

The U.S. President's Emergency Plan for AIDS Relief (PEPFAR) Scientific Advisory Board will meet on January 6-7, 2011 at the St. Gregory Hotel, 2033 M Street, NW., Washington, DC 20036. The meeting will be from 9 a.m. until approximately 5 p.m. on both days and is open to the public.

The meeting will be hosted by the Office of the U.S. Global AIDS Coordinator, Ambassador Eric Goosby, who leads implementation of the President's Emergency Plan for AIDS Relief (PEPFAR).

The PEPFAR Scientific Advisory Board serves the Global AIDS Coordinator in a solely advisory capacity concerning scientific, implementation, and policy issues related to the global response to HIV/AIDS. These issues will be of concern as they influence the priorities and direction of PEPFAR evaluation and research, the content of national and international strategies and implementation, and the role of PEPFAR in the international discourse regarding appropriate and resourced responses. Topics for the January 6-7th meeting will include an overview of PEPFAR-funded evaluations, priority setting within HIV/AIDS Care, Treatment and Prevention areas, and recommendations to the Ambassador on the future direction of evaluation and research within PEPFAR.

The public may attend this meeting as seating capacity allows. To RSVP and for those requesting reasonable accommodation, please contact the Office of the U.S. Global AIDS Coordinator, Tiffany Peoples: E-mail (PeoplesTN2@state.gov), by December 29, 2010. Requests made after that time will be considered, but might not be possible to accommodate. While the meeting is open to public attendance, the Board will determine procedures for public participation and will announce those procedures at the meeting.

For further information about the meeting, please contact Paul Bouey, Deputy Coordinator, Office of the U.S. Global AIDS Coordinator at (202) 663-2440 or BoueyPD@state.gov.

Dated: December 8, 2010.
Paul D. Bouey,
Deputy Coordinator, Office of the U.S. Global AIDS Coordinator, Department of State.

[FR Doc. 2010-31498 Filed 12-14-10; 8:45 am]

BILLING CODE 4710-10-P